DEPARTMENT OF JUSTICE

Notice of Lodging of Proposed Consent Decree Under the Comprehensive Environmental Response, Compensation, and Liability Act

On November 12, 2015, the Department of Justice lodged a proposed consent decree with the United States District Court for the Western District of New York in the lawsuit entitled United States v. Alcoa Inc., et al., Civil No.: 15-cv-973-A.

In this action the United States sought, pursuant to the Comprehensive Environmental Response, Compensation, and Liability Act (“CERCLA”), 42 U.S.C. 9601, et seq., injunctive relief and recovery of response costs regarding the Olean Well Field Superfund Site in Olean, New York (“Site”). The settlement requires two parties, Alcoa Inc. and Cutco Corporation, to perform remedial actions at two areas of the Site known as the “Alcas facility” and “Parcel B,” to reimburse the United States for $612,000 of response costs incurred at the Site, and to reimburse the United States for its future response costs regarding the Alcas facility and Parcel B. The settlement resolves the United States' claims against these defendants regarding the Site.

The publication of this notice opens a period for public comment on the proposed consent decree. Comments should be addressed to the Assistant Attorney General, Environment and Natural Resources Division, and should refer to United States v. Alcoa Inc., et al., Civ. No. 15-cv-973, D.J. Ref. No. 90-11-3-181/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed consent decree may be examined and downloaded at this Justice Department Web site: http://www.justice.gov/enrd/consent-decrees. We will provide a paper copy of the proposed consent decree upon written request and payment of reproduction costs. Please mail your request and payment to: Consent Decree Library, U.S. DOJ—ENRD, P.O. Box 7611, Washington, DC 20044-7611.

Please enclose a check or money order for $55.50 (25 cents per page reproduction cost) payable to the United States Treasury.

Robert E. Maher Jr.,
Assistant Section Chief, Environmental Enforcement Section, Environment and Natural Resources Division.

[FR Doc. 2015-29578 Filed 11-19-15; 8:45 am]

BILLING CODE 4410-15-P